DEPARTMENT OF ENERGY

Federal Energy Regulatory Commission

[Project Nos. 2192-013 and 2590-040]

Notice of Application for Amendment of License and Soliciting Comments, Motions To Intervene, and Protests

August 26, 2003.

Take notice that the following application has been filed with the Commission and is available for public inspection:

a. Application type: Amendment of License to Revise Project Boundary.

b. Projects Nos: 2192-013 and 2590-040.

c. Date Filed: June 9, 2003; amended July 15, 2003.

d. Applicant: Consolidated Water Power Company.

e. Name of Projects: Biron Hydroelectric Project and Whiting Hydroelectric Project.

f. Location: The Biron Hydroelectric Project is located on the Wisconsin River, in Wood and Portage Counties, Wisconsin. The Whiting Hydroelectric Project is located on the Wisconsin River, in Portage County, Wisconsin.

g. Filed Pursuant to: Federal Power Act, 16 U.S.C. 7919(a)-825(r) and 799 and 801.

h. Applicant Contact: Mark E. Anderson, Resource Manager, Consolidated Water Power Company, P.O. Box 8050, Wisconsin Rapids, WI 54495-8050, (715) 422-3972, or e-mail mark.anderson@storaenso.com.

i. FERC Contact: Any questions on this notice should be addressed to Etta Foster at (202) 502-8769, or e-mail address: etta.foster@ferc.gov.

j. Deadline for filing comments and/or motions: September 26, 2003.

All documents (original and eight copies) should be filed with Magalie R.Salas, Secretary, Federal Energy Regulatory Commission, 888 First Street, NE., Washington, DC 20426. Please include the project numbers (P-2192-013 and 2590-040) on any comments or motions filed.

k. Description of Request: Consolidated Water Power Company (CWPCo) proposes to add approximately 19.14 acres to the Whiting project boundary, and approximately 49.79 acres to the Biron project boundary. The additional acres will provide various forms of public access to the water or on lands already associated with the projects.

l. Location of the Application: A copy of the application is available for inspection and reproduction at the Commission's Public Reference Room, located at 888 First Street, NE., Room 2A, Washington, DC 20426, or by calling (202) 502-8371. This filing may also be viewed on the Commission's Web site at http://www.ferc.gov using the eLibrary (FERRIS) link. Enter the docket number excluding the last three digits in the docket number field to access the document. For assistance, please contact FERC Online Support at FERCOnlineSupport@ferc.gov or toll-free at (866)208-3676, or for TTY, contact (202) 502-8659. A copy is also available for inspection and reproduction at the address in item (h) above.

m. Individuals desiring to be included on the Commission's mailing list should so indicate by writing to the Secretary of the Commission.

n. Comments, Protests, or Motions to Intervene-Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. A copy of any motion to intervene must also be served upon each representative of the Applicant specified in the particular application.

p. Agency Comments-Federal, state, and local agencies are invited to file comments on the described application. A copy of the application may be obtained by the agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site as http://www.ferc.gov under the “e-filing link.

Linda Mitry,
Acting Secretary.

[FR Doc. 03-22354 Filed 8-29-03; 8:45 am]

BILLING CODE 6717-01-P